DEPARTMENT OF LABOR

Office of Federal Contract Compliance Programs

RIN 1250-AA07

Prohibiting Discrimination Based on Sexual Orientation and Gender Identity by Contractors and Subcontractors

AGENCY: Office of Federal Contract Compliance Programs, Labor.

ACTION: Notice.

SUMMARY: As a part of its continuing effort to reduce paperwork and respondent burdens, the Department of Labor (DOL) conducts a pre-clearance consultation program to provide the general public and Federal agencies with an opportunity to comment on collections of information in accordance with the Paperwork Reduction Act of 1995 (PRA) (44 U.S.C. 3505(c)(2)(A). The program helps to ensure that requested data can be provided in the desired format, reporting burden (time and financial resources) is minimized, collection instruments are clearly understood, and the impact of the collection requirements on respondents can be properly assessed.

The Department notes that a Federal agency cannot conduct or sponsor a collection of information unless it is approved by the Office of Management and Budget (OMB) under the PRA, and displays a currently valid OMB control number, and the public is not required to respond to a collection of information unless it displays a currently valid OMB number. Notwithstanding any other provisions of law, no person shall be subject to penalty for failing to comply with a collection of information if the collection of information does not display a currently valid OMB control number. See 5 CFR 1230.5(a) and 1320.6.

DATES: Written comments must be submitted by February 6, 2015.

ADDRESSES: You may submit comments, identified by Control Number 1250-0NEW, by either one of the following methods:

Electronic comments: Through the Federal eRulemaking Portal at http://www.regulations.gov. Follow the instructions for submitting comments.

Mail, Hand Delivery, Courier: Address comments to Debra Carr, Director, Division of Policy, and Program Development, Office of Federal Contract Compliance Programs, 200 Constitution Avenue NW., Room C3325, Washington, DC 20210. Telephone: (202) 693-0103 (voice) or (202) 693-1337 (TTY).

Instructions: Please submit one copy of your comments by only one method. All submissions received must include the agency name and OMB control number identified above for this information collection. Because we continue to experience delays in receiving mail in the Washington, DC area, commenters are strongly encouraged to either transmit their comments electronically via the regulations.gov Web site or mail their comments early to ensure that they are timely received. Comments, including any personal information provided, become a matter of public record and will be posted to the regulations.gov Web site. They will also be summarized and/or included in the request for Office of Management and Budget approval of the information collection request.

FOR FURTHER INFORMATION CONTACT: Debra Carr, Director, Division of Policy, and Program Development, Office of Federal Contract Compliance Programs, 200 Constitution Avenue NW., Room C-3325, Washington, DC 20210. Telephone: (202) 693-0103 (voice) or (202) 693-1337 (TTY) (these are not toll-free numbers). Copies of this notice may be obtained in alternative formats (e.g., Large Print, Braille, Audio Tape or Disc), upon request, by calling (202) 693-0103 (not a toll-free number). TTY/TDD callers may call (202) 693-1337 (not a toll-free number) to obtain information or request materials in alternative formats.

SUPPLEMENTARY INFORMATION:

I. Background: On July 21, 2014 President Obama issued Executive Order 13672, titled “Further Amendments to Executive Order 11478, Equal Employment Opportunity in the Federal Government and Executive Order 11246, Equal Employment Opportunity.” Executive Order 13672 amends Executive Order 11246 and directs DOL to prepare regulations to implement its requirements. Concurrent with this Notice, DOL is publishing a final rule implementing Executive Order 13672, which amended the existing regulations implementing Executive Order 11246 by substituting “sex, sexual orientation, gender identity, or national origin” for “sex or national origin” wherever the list of bases upon which Federal contractors are prohibited from discriminating against job applicants and employees appeared.¹ Among other things, these regulations set forth information disclosure and reporting requirements for covered Federal contractors, subcontractors, and federally assisted construction contractors and subcontractors. Information collection requirements addressed in this rule include modified language in the equal opportunity clause that contractors ² must use in covered subcontracts and purchase orders; modified language that contractors must use in job advertisements and employment solicitations; and a modification to the requirement that a contractor report to the Department of State and OFCCP when their employees or prospective employees are denied a visa or entry to a country in which or with which it is doing business, and it believes the denial is due to a basis covered by Executive Order 11246, as amended by Executive Order 13672.

¹ While the text of 41 CFR 60-1.11 contains the full list of protected characteristics, that section has been indefinitely suspended as per Notice of Further Deferral of Effective Dates of Regulations, 46 FR 18951 (Mar. 27, 1981) and Payment of Membership Fees and Other Expenses to Private Organizations; Proposed Rule Withdrawal, 46 FR 19004 (Mar. 27, 1981), and thus cannot be amended.

² Unless otherwise stated, the term “contractor” includes both “contractors” and “subcontractors,” and the term “contract” also includes “subcontracts.”

Current Action: Pursuant to the PRA implementing regulations at 5 CFR 1320.8(d)(1), this notice requests comments on the information collection request discussed above in the Background section of this notice. Interested parties are encouraged to provide comments to the individual identified in the ADDRESSES section above. In addition to having a 60-day opportunity to file comments with the Department, written comments under the PRA about the information collection requirements may be addressed to the OMB. Comments to the OMB should be directed to: Office of Information and Regulatory Affairs, Attention OMB Desk Officer for the DOL-OS, Office of Management and Budget, Room 10235, Washington, DC 20503; You can submit comments to OMB by email at OIRA_submission@omb.eop.gov. The OMB will consider all written comments it receives within 30 days of publication of this notice.

II. Desired Focus of Comments: DOL and OMB are particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Office of Federal Contract Compliance Programs.

Type of Review: New Collection.

Title of Collection: Prohibiting Discrimination Based on Sexual Orientation and Gender Identity by Contractors and Subcontractors.

OMB Control Number: 1250—0NEW.

Affected Public: Private Sector—Business.

Estimated Number of Respondents: 100,000.

Frequency: On occasion.

Estimated Total Annual Burden Hours: 38,769.

Total estimated Annual Cost Burden (excluding hour monetization): $0.

Comments submitted in response to this notice will be summarized and may be included in the request for OMB approval of the final information collection request. The comments will become a matter of public record.

Signed at Washington, DC, this 3rd day of December, 2014.
Patricia A. Shiu,
Director, Office of Federal Contract Compliance Programs.

[FR Doc. 2014-28723 Filed 12-5-14; 8:45 am]

BILLING CODE 4510-CM-P